DEPARTMENT OF THE TREASURY

United States Mint

Citizens Coinage Advisory Committee; Meetings

AGENCY: United States Mint, Department of Treasury.

ACTION: Notification of Citizens Coinage Advisory Committee April 6, 2015, Public Meeting.

SUMMARY: Pursuant to United States Code, title 31, section 5135(b)(8)(C), the United States Mint announces the Citizens Coinage Advisory Committee (CCAC) public meeting scheduled for April 6, 2015.

Date: April 6, 2015.

Time: 2:00 p.m. to 4:00 p.m. EDT.

Location: This meeting will occur via teleconference. Interested members of the public may dial in to listen to the meeting at (866) 564-9287/Access Code: 62956028.

Subject: Discussion of design concepts for the 2017 Lions Club International Century of Service Commemorative Coin and the Selma Foot Soldiers of 1965 Congressional Gold Medal.

Interested persons should call the CCAC HOTLINE at (202) 354-7502 for the latest update on meeting time and room location.

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: March 31, 2015.
Beverly Ortega Babers,
Chief Administrative Officer, United States Mint.

[FR Doc. 2015-07683 Filed 4-6-15; 8:45 am]

BILLING CODE CODE P